DEPARTMENT OF LABOR

Office of Federal Contract Compliance Programs

Form CC-4, Complaint Involving Employment Discrimination by a Federal Contractor or Subcontractor; Proposed Renewal of the Approval of Information Collection Requirements; Comment Request

ACTION: Notice.

SUMMARY: The Department of Labor (DOL), as part of its continuing effort to reduce paperwork and respondent burden, conducts a pre-clearance consultation program to provide the general public and Federal agencies with an opportunity to comment on proposed and/or continuing collections of information in accordance with the Paperwork Reduction Act of 1995 (PRA). This program helps to ensure that requested data can be provided in the desired format, reporting burden (time and financial resources) is minimized, collection instruments are clearly understood, and the impact of collection requirements on respondents can be properly assessed. The Office of Federal Contract Compliance Programs (OFCCP) is soliciting comments concerning its proposal to renew the Office of Management and Budget (OMB) approval of the information collection: “Form CC-4, Complaint Involving Employment Discrimination by a Federal Contractor or Subcontractor.” The current OMB approval for Form CC-4 expires on May 31, 2020. A copy of the proposed information collection request can be obtained by contacting the office listed below in the FOR FURTHER INFORMATION CONTACT section of this Notice or by accessing it at www.regulations.gov.

DATES: Written comments must be submitted to the office listed in the addresses section below on or before December 20, 2019.

ADDRESSES: You may submit comments, identified by Control Number 1250-0002, by one of the following methods:

Electronic comments: Through the Federal eRulemaking Portal at www.regulations.gov. Follow the instructions for submitting comments.

Mail, Hand Delivery, Courier: Address comments to Harvey D. Fort, Deputy Director, Division of Policy and Program Development, Office of Federal Contract Compliance Programs, 200 Constitution Avenue NW, Room C3325, Washington, DC 20210.

Instructions: Please submit one copy of your comments by only one method. All submissions received must include the agency name and OMB Control Number identified above for this information collection. Commenters are strongly encouraged to submit their comments electronically via the www.regulations.gov website or to mail their comments early to ensure that they are timely received. Comments, including any personal information provided, become a matter of public record and will be posted to the www.regulations.gov website. They will also be summarized and/or included in the request for OMB approval of the information collection request.

FOR FURTHER INFORMATION CONTACT: Harvey D. Fort, Deputy Director, Division of Policy and Program Development, Office of Federal Contract Compliance Programs, 200 Constitution Avenue NW, Room C-3325, Washington, DC 20210. Telephone: (202) 693-0103 (voice) or (202) 693-1337 (TTY) (these are not toll-free numbers). Copies of this notice may be obtained in alternative formats (large print, braille, audio recording) upon request by calling the numbers listed above.

SUPPLEMENTARY INFORMATION: I. Background: OFCCP administers and enforces the three equal employment opportunity laws listed below.

• Executive Order 11246, as amended (E.O. 11246)

• Section 503 of the Rehabilitation Act of 1973, as amended, 29 U.S.C. 793 (Section 503)

• Vietnam Era Veterans' Readjustment Assistance Act of 1974, as amended, 38 U.S.C. 4212 (VEVRAA)

These authorities prohibit employment discrimination by Federal contractors and subcontractors and require them to take affirmative action to ensure that equal employment opportunities are available regardless of race, color, religion, sex, sexual orientation, gender identity, national origin, disability, or status as a protected veteran. Additionally, Federal contractors and subcontractors are prohibited from discriminating against applicants and employees for asking about, discussing, or sharing information about their pay or, in certain circumstances, the pay of their co-workers. Federal contractors and subcontractors are further prohibited from harassing, intimidating, threatening, coercing, or discriminating against individuals who file a complaint, assist or participate in any OFCCP investigation, oppose any discriminatory act or practice, or otherwise exercise their rights protected by OFCCP's laws.

No private right of action exists under the authorities that are enforced by OFCCP, i.e., a private individual may not bring a lawsuit against an employer (or prospective employer) for noncompliance with its contractual obligations enforced by OFCCP. However, any employee of, or applicant for employment with, a federal contractor or subcontractor may file a complaint with OFCCP alleging discrimination or failure to comply with affirmative action obligations. OFCCP encourages such employees and applicants to file their complaints by completing its complaint form (“Form CC-4”). OFCCP investigates the complaint but retains the discretion whether to pursue administrative or judicial enforcement. If a complaint is filed under E.O. 11246 or Section 503, OFCCP may refer it to the U.S. Equal Employment Opportunity Commission (EEOC).¹ OFCCP investigates all complaints filed under VEVRAA.

¹ See, 41 CFR 60-1.24(a) and 41 CFR 60-741.5.

Under E.O. 11246, the authority for collection of complaint information is Section 206(b). The implementing regulations which specify the content of this information collection are found at 41 CFR 60-1.23. Under VEVRAA, the authority for collecting complaints information is at 38 U.S.C. 4212(b) and the implementing regulations which specify the content of VEVRAA complaints are found at 41 CFR 60-300.61(b). The statutory authority for collecting complaint information under Section 503 is at 29 U.S.C. 793(b), and the implementing regulations which specify the content of Section 503 complaints are found at 41 CFR 60-741.61(c). This information collection request covers the recordkeeping and reporting requirements for Form CC-4.

II. Review Focus: DOL is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions: DOL seeks the approval of the extension of this information collection instrument in order to carry out its responsibility to enforce the affirmative action and nondiscrimination provisions of the three authorities that it administers. DOL made a clarifying edit on its complaint form. Now, when a complainant indicates that they filed a complaint containing the same allegations with another federal or local agency, DOL asks what date they filed the other complaint. Requesting this information is intended to improve the efficiency of processing complaints and eliminate duplicative agency efforts.

Type of Review: Renewal.

Agency: Office of Federal Contract Compliance Programs.

Title: Complaint Form CC-4, Complaint Involving Employment Discrimination by Federal Government Contractors or Subcontractors.

OMB Number: 1250-0002.

Agency Number: None.

Affected Public: Business or other for profit, Not-for-profit institutions.

Total Respondents: 897.

Total Annual Responses: 897.

Average Time per Response: 1 hour.

Estimated Total Burden Hours: 897.

Frequency: On occasion.

Total Burden Cost (capital/startup): $0.

Total Burden Cost (operating/maintenance): $169.00.

Dated: October 10, 2019.
Harvey D. Fort,
Deputy Director, Division of Policy and Program Development, Office of Federal Contract Compliance Programs.

[FR Doc. 2019-22894 Filed 10-18-19; 8:45 am]

BILLING CODE 4510-CM-P